DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: The public meeting will be held July 29-30, 2008, from 8 a.m. to 5 p.m. on July 29th and 8 a.m. to 12:30 p.m. on July 30th.

Location: San Francisco, California. Sheraton Fisherman's Wharf, 2500 Mason Street, San Francisco, CA, 94133. The times and agenda topics are subject to change. Refer to the HSRP website listed below for the most current meeting agenda.

FOR FURTHER INFORMATION CONTACT: Captain Steven Barnum, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to the public and public comment periods will be scheduled at various times throughout the meeting. These comment periods will be part of the final agenda that will be published before the meeting date on the HSRP website listed above. Each individual or group making a verbal presentation will be limited to a total time of five (5) minutes. Written comments (at least 30 copies) should be submitted to the DFO by July 16, 2008. Written comments received by the DFO after July 16, 2008, will be distributed to the HSRP, but may not be reviewed before the meeting date. Approximately 25 seats will be available for the public, on a first-come, first-served basis.

Matters To Be Considered: (1) Swearing in of new member; (2) Panel discussion with various stakeholders in the region on use of and interest in NOAA Navigation Services; (3) Updates on NOAA/California partnership on Integrated Ocean and Coastal Mapping (IOCM) project, NOAA's Height Modernization and Print on Demand; (4) briefing on Climate and the Coasts and Arctic issues; and (5) public statements.

Dated: July 2, 2008.
John Potts,
Acting, Associate Assistant Administrator for Management and CFO/CAO, Ocean Services and Coastal Zone Management.

[FR Doc. E8-15509 Filed 7-7-08; 8:45 am]

BILLING CODE 3510-JE-P